DEPARTMENT OF TRANSPORTATION

Pipeline and Hazardous Materials Safety Administration

[Docket ID PHMSA-2010-0133]

Pipeline Safety: Workshop on Public Awareness Programs

AGENCY: Pipeline and Hazardous Materials Safety Administration (PHMSA), DOT.

ACTION: Notice of workshop.

SUMMARY: PHMSA is co-sponsoring a one day public awareness workshop with the National Association of Pipeline Safety Representatives (NAPSR). The workshop will be an opportunity, following the initial four-year implementation cycle, to review the implementation process, identify what implementation strategies have worked well, discuss challenges faced by the pipeline industry, discuss Federal and state regulatory oversight, learn about public interest and need for information about pipelines in their communities, and identify critical elements of a successful operator public awareness program. Pipeline trade associations, the Pipeline Safety Trust, the National Transportation Safety Board, and pipeline operators will share lessons learned from implementing their public awareness programs based on Federal regulations. PHMSA and state partners will discuss the scope of and timeline for conducting effectiveness evaluations. PHMSA and our state partners will use the results from this event, in addition to existing inspection activities, to further develop our programs for evaluating pipeline operator public awareness programs. The workshop will be webcast live, in real time and presentations will be made available following the workshop.

DATES: The workshop will be held on June 30, 2010. Name badge pick up and on-site registration will be available starting at 7 a.m., with the workshop taking place from 8 a.m. until approximately 5 p.m. central time. Refer to the meeting Web site for updated agenda and times and live webcast at: http://primis.phmsa.dot.gov/meetings/MtgHome.mtg?mtg=65&nocache=9351. Please note that all workshop presentations will be available on the Stakeholder Communication website within 30 days following the workshop at: http://primis.phmsa.dot.gov/comm/PublicEducation.htm?nocache=3200.

ADDRESSES: The workshop will be held at the Intercontinental Hotel, 2222 W. Loop-South, Houston, Texas 77027. Hotel reservations must be made by contacting the hotel directly. Hotel reservations can be made under the “U.S. Department of Transportation, Public Awareness Workshop” room block for the nights of June 29 and 30, 2010, at 1-800-316-8645, or Online at: http://www.ichotelsgroup.com/intercontinental/en/gb/reservations/dates-preferences/houston. A daily room rate of $118.00 is available until June 18, 2010. The meeting room will be posted at the hotel on the day of the workshop.

FOR FURTHER INFORMATION CONTACT: Christie Murray at 202-366-4996 or by e-mail at christie.murray@dot.gov.

SUPPLEMENTARY INFORMATION: Registration: Members of the public may attend this free workshop. To help assure that adequate arrangements are made, all attendees and webcast viewers are encouraged to register for the workshop at: http://primis.phmsa.dot.gov/meetings/MtgHome.mtg?mtg=65&nocache=9351.

Comments: Members of the public may also submit written comments, either before or after the workshop. Comments should reference Docket ID PHMSA-2010-0133. Comments may be submitted in the following ways:

• E-Gov Web Site: http://www.regulations.gov. This site allows the public to enter comments on any Federal Register notice issued by any agency. Follow the instructions for submitting comments.

• Fax: 1-202-493-2251.

• Mail: Docket Management System, U.S. Department of Transportation, 1200 New Jersey Avenue, SE., Room W12-140, Washington, DC 20590.

Hand Delivery: DOT Docket Management System, Room W12-140, on the ground floor of the West Building, 1200 New Jersey Avenue, SE., Washington, DC between 9 a.m. and 5 p.m., Monday through Friday, except Federal holidays.

Instructions: Identify the Docket ID at the beginning of your comments. If you submit your comments by mail, submit two copies. If you wish to receive confirmation that PHMSA has received your comments, include a self-addressed stamped postcard. Internet users may submit comments at http://www.regulations.gov. Note: Comments will be posted without changes or edits to http://www.regulations.gov including any personal information provided. Please see the Privacy Act heading below for additional information.

Privacy Act Statement: Anyone may search the electronic form of all comments received for any of our dockets. The Privacy Notice for comment submissions may be reviewed at http://www.regulations.gov. You may review DOT's complete Privacy Act Statement in the Federal Register published April 11, 2000 (65 FR 19477) or you may visit http://DocketsInfo.dot.gov.

Information on Services for Individuals with Disabilities: PHMSA is committed to providing equal access to this meeting for all participants. If you need alternative formats or services because of a disability, please contact Christie Murray at (202) 366-4996, or via e-mail at christie.murray@dot.gov by close of business June 18, 2010.

Preliminary Workshop Agenda:

(1) Opening Remarks by PHMSA.

(2) Chronology of Public Awareness (PHMSA)—(timeline of public awareness and clearinghouse).

(3) PHMSA observations (Discuss inspection findings, inspection/enforcement guidance material and path forward on conducting effectiveness inspections).

(4) National Association of Pipeline Safety Representatives (NAPSR) Perspectives.

(5) Public Perspective, Pipeline Safety Trust.

(6) National Transportation Safety Board Recommendations.

(7) Pipeline Trade Association Observations (High level discussion about member company challenges with implementing and evaluating effectiveness).

• American Gas Association

• American Public Gas Association

• Association of Oil Pipelines

• American Petroleum Institute

• Interstate Natural Gas Association of America

(8) Question & Answer Period.

(9) Lessons Learned Panel Discussion, Pipeline Operators (Identify what implementation strategies have worked well, discuss challenges faced by the pipeline industry).

• Hazardous Liquid

• Gas Transmission/Gathering

• Natural Gas Distribution

(10) Group Discussion (To address Web cast online questions and facilitate an open discussion).

(11) Wrap up/closing (PHMSA/NAPSR).

(12) Refer to the registration Web site for a more detailed agenda and Webcast information: http://primis.phmsa.dot.gov/meetings/MtgHome.mtg?mtg=65&nocache=9351.

Issued in Washington, DC, on June 2, 2010.
Jeffrey D. Wiese,
Associate Administrator for Pip eline Safety.

[FR Doc. 2010-13791 Filed 6-8-10; 8:45 am]

BILLING CODE 4910-60-P